DEPARTMENT OF THE TREASURY

Office of Foreign Assets Control

Designation of an Entity Pursuant to Executive Order 13413

AGENCY: Office of Foreign Assets Control, Treasury.

ACTION: Notice.

SUMMARY: The Treasury Department's Office of Foreign Assets Control (“OFAC”) is publishing the name of one entity whose property and interests in property have been blocked pursuant to Executive Order 13413 of October 27, 2006, “Blocking Property of Certain Persons Contributing to the Conflict in the Democratic Republic of the Congo.”

DATES: The designation by the Director of OFAC of the one entity identified in this notice, pursuant to Executive Order 13413 of October 27, 2006, is effective on July 1, 2014.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treas.gov/ofac) and via facsimile through a 24-hour fax-on-demand service, tel.: (202) 622-0077.

Background

On October 27, 2006, the President signed Executive Order 13413, “Blocking Property of Certain Persons Contributing to the Conflict in the Democratic Republic of the Congo” (the “Order” or “E.O. 13413”), pursuant to the International Emergency Economic Powers Act (50 U.S.C. 1701 et seq.), the National Emergencies Act (50 U.S.C. 1601 et seq.), and section 5 of the United Nations Participation Act, as amended (22 U.S.C. 287c).

Section 1 of the Order blocks, with certain exceptions, all property and interests in property that are in the United States, that come within the United States or that are or come within the possession or control of United States persons, of the persons identified by the President in the Annex to the Order, as well as those persons determined by the Secretary of the Treasury, after consultation with the Secretary of State, to meet any of the criteria set forth in subparagraphs (a)(ii)(A)-(a)(ii)(G) of Section 1 of the Order.

On July 1, 2014, the Director of OFAC, in consultation with the Secretary of State, designated pursuant to one or more of the criteria set forth in Section 1 of the Order, the one entity listed below, whose name has been added to the list of Specially Designated Nationals and Blocked Persons and whose property and interests in property, therefore, are blocked.

The listing of the blocked entity appears as follows:

1. ALLIED DEMOCRATIC FORCES (a.k.a. ADF; a.k.a. ADF/NALU; a.k.a. FORCES DEMOCRATIQUES ALLIEES-ARMEE NATIONALE DE LIBERATION DE L'OUGANDA; a.k.a. ISLAMIC ALLIANCE OF DEMOCRATIC FORCES), North Kivu Province, Congo, Democratic Republic of the [DRCONGO].

Dated: July 1, 2014.
Barbara C. Hammerle,
Acting Director, Office of Foreign Assets Control.

[FR Doc. 2014-16009 Filed 7-8-14; 8:45 am]

BILLING CODE 4810-AL-P